DEPARTMENT OF THE INTERIOR

Bureau of Land Management

[LLNVS01000. L51010000.ER0000. LVRWF1806190. 18X; N-84631; MO #4500134356]

Notice of Availability of the Draft Resource Management Plan Amendment and Draft Environmental Impact Statement for the Gemini Solar Project in Clark County, NV

AGENCY: Bureau of Land Management, Interior.

ACTION: Notice of availability.

SUMMARY: In accordance with the National Environmental Policy Act of 1969, as amended, the Bureau of Land Management (BLM) has prepared a Draft Resource Management Plan (RMP) Amendment and Draft Environmental Impact Statement (EIS) for the Gemini Solar Project and by this notice is announcing the opening of the comment period.

DATES: This notice initiates the public comment period for the Draft EIS. Comments may be submitted in writing until September 5, 2019. The date(s) and location(s) of any public meetings will be announced at least 15 days in advance through local media, newspapers and the BLM website at: https://go.usa.gov/xntTQ. In order to be included in the Draft EIS, all comments must be received prior to the close of the 90-day public comment period. We will provide additional opportunities for public participation upon publication of the Final EIS.

ADDRESSES: You may submit comments related to the Gemini Solar Project Draft RMP Amendment and Draft EIS by any of the following methods:

• Website: https://go.usa.gov/xntTQ.

• Email: blm_nv_sndo_geminisolar@blm.gov.

• Fax: 702-515-5023

• Mail: Gemini Solar Project, Attn: Herman Pinales, BLM Las Vegas Field Office, 4701 N Torrey Pines Drive, Las Vegas, NV 89130.

FOR FURTHER INFORMATION CONTACT: Herman Pinales, Energy & Infrastructure Project Manager, telephone 702-515-5284; address 4701 North Torrey Pines Drive, Las Vegas, Nevada 89130-2301; email blm_nv_sndo_geminisolar@blm.gov.

Persons who use a telecommunications device for the deaf (TDD) may call the Federal Relay Service (FRS) at 1-800-877-8339 to contact Mr. Pinales. FRS is available 24 hours a day, 7 days a week, to leave a message or question. You will receive a reply during normal business hours.

SUPPLEMENTARY INFORMATION: The applicant, Solar Partners XI, LLC (Arevia) has proposed to construct, operate, maintain, and decommission a 690 megawatt photovoltaic solar electric generating facility and associated generation tie-line and access road facilities on approximately 7,100 acres of Federal lands administered by the BLM. The proposed solar facility would be located approximately 33 miles northeast of Las Vegas and directly south of the Moapa River Indian Reservation in Clark County, Nevada. The expected life of the project is 30 years.

The Visual Resource Management class in the application area is III due to its close proximity to the Old Spanish National Historic Trail, Muddy Mountain Wilderness Area, and Bitter Springs Back Country Byway. The class III management objective is to partially retain the existing character of the landscape. Permitting the project would require a land use plan amendment to a class IV to provide for management activities that require major modifications of the existing character of the landscape.

The Draft EIS addresses the direct, indirect and cumulative environmental impacts of the proposed action and alternatives. The Draft EIS evaluates the Proposed Action, the Hybrid (BLM Preferred), All Mowing and the No Action Alternatives. All of the alternatives involve development on approximately 7,100 acres of land; however, each action/alternative differs in how the facility is constructed. The Proposed Action would involve solar development utilizing traditional development methods, which include disk and roll that removes all vegetation in the solar array areas. The Hybrid (BLM Preferred) Alternative would involve solar development utilizing a combination of traditional development methods in solar array areas (on approximately 2,500 acres) and mowing that leaves vegetation and natural land contours in place on the remaining solar array areas (on approximately 4,600 acres). The All Mowing Alternative would involve development of the facility utilizing only mowing in solar array areas. Where mowing is utilized in each alternative, desert tortoise would be reintroduced into the solar array areas after completion of construction, since habitat would remain. The No Action Alternative would be a continuation of existing conditions.

A Notice of Intent to prepare an EIS for the proposed Gemini Solar Project was published in the Federal Register on July 13, 2018 (83 FR 32681). The public scoping period closed on August 27, 2018. The BLM held two public scoping meetings. The BLM received 34 public scoping comment letters during the 45-day scoping period. The scoping comments focused on biological resources (desert tortoise and threecorner milkvetch); visual resources; recreation and public access; and impacts to the Old Spanish National Historic Trail.

The BLM analyzed a combination of proposed environmental measures and possible mitigation to eliminate or minimize impacts associated with the proposed action. These included the potential for identifying opportunities to apply on-site mitigation strategies appropriate to the site of the proposal, and management actions to achieve resource objectives.

The BLM continues to consult with Indian tribes on a government-to-government basis in accordance with Executive Order 13175 and other policies. Tribal concerns, including impacts to Indian trust assets and potential impacts to cultural resources, will be given due consideration.

Please note that public comments and information submitted including names, street addresses, and email addresses of persons who submit comments will be available for public review and disclosure at the address listed earlier during regular business hours (8 a.m. to 4:30 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Jon K. Raby,
Nevada State Director.

[FR Doc. 2019-12028 Filed 6-6-19; 8:45 am]

BILLING CODE 4310-HC-P